DEPARTMENT OF COMMERCE

International Trade Administration

[C-552-805]

Polyethylene Retail Carrier Bags From the Socialist Republic of Vietnam: Final Results of Expedited First Sunset Review of the Countervailing Duty Order

AGENCY: Enforcement and Compliance, International Trade Administration, Department of Commerce.

SUMMARY: The Department of Commerce (the Department) finds that revocation of the countervailing duty (CVD) order on polyethylene retail carrier bags (PRCBs) from the Socialist Republic of Vietnam (Vietnam) would be likely to lead to continuation or recurrence of countervailable subsidies at the levels indicated in the “Final Results of Sunset Review” section of this notice.

DATES: Effective Date: August 5, 2015.

FOR FURTHER INFORMATION CONTACT: Jun Jack Zhao, AD/CVD Operations, Office VII, Enforcement and Compliance, International Trade Administration, U.S. Department of Commerce, 14th Street and Constitution Avenue NW, Washington, DC 20230; telephone (202) 482-1396.

SUPPLEMENTARY INFORMATION:

Background

On May 4, 2010, the Department published the CVD order on PRCBs from Vietnam.¹ On April 1, 2015, the Department published a notice of initiation of the first sunset review of the CVD Order on PRCBs from Vietnam, pursuant to section 751(c) of the Tariff Act of 1930, as amended (the Act).²

¹ See Polyethylene Retail Carrier Bags from the Socialist Republic of Vietnam: Countervailing Duty Order, 75 FR 23670 (May 4, 2010) (CVD Order).

² See Initiation of Five-Year (“Sunset”) Review, 80 FR 17388 (April 1, 2015).

On April 16, 2015, the Polyethylene Retail Carrier Bag Committee (the Committee), an ad hoc association of five producers of the domestic like product, timely notified the Department of its intent to participate.³ The Committee is comprised of the following five domestic producers of PRCBs: Hilex Poly Co., LLC, Superbag Corporation, Unistar Plastics, LLC, Command Packaging, and Roplast Industries, Inc.

³ See Letter to the Department from the Committee, dated April 16, 2015.

On May 1, 2015, the Department received a substantive response from the Committee within the 30-day deadline specified in 19 CFR 351.218(d)(3)(i).⁴ The Department did not receive substantive responses from any respondent interested party. As a result, pursuant to section 751(c)(3)(B) of the Act and 19 CFR 351.218(e)(1)(ii)(C)(2), the Department conducted an expedited (120-day) sunset review of the CVD order on PRCBs from Vietnam.

⁴ See Letter from the Committee to the Department, entitled “Five-Year (“Sunset”) Review Of Countervailing Duty Order On Polyethylene Retail Carrier Bags From The Socialist Republic Of Vietnam: Domestic Industry's Substantive Response,” dated May 1, 2015.

Scope of the Order

This order covers PRCBs. Imports of merchandise included within the scope of this order are currently classifiable under statistical category 3923.21.0085 of the Harmonized Tariff Schedule of the United States. The Issues and Decision Memorandum, which is hereby adopted by this notice, provides a full description of the scope of the order.⁵

⁵ See “Issues and Decision Memorandum for the Final Results of the Expedited First Sunset Review of the Countervailing Duty Order on Polyethylene Retail Carrier Bags from the Socialist Republic Of Vietnam,” from Christian Marsh, Deputy Assistant Secretary for Antidumping and Countervailing Duty Operations, to Paul Piquado, Assistant Secretary for Enforcement and Compliance, dated concurrently with this notice (Issues and Decision Memorandum).

The Issues and Decision Memorandum is a public document and is on file electronically via Enforcement and Compliance's Antidumping and Countervailing Duty Centralized Electronic Service System (ACCESS). ACCESS is available to registered users at http://access.trade.gov and in the Central Records Unit, room B8024 of the main Department of Commerce building. In addition, a complete version of the Issues and Decision Memorandum can be accessed at http://enforcement.trade.gov/frn/. The signed Issues and Decision Memorandum and the electronic version of the Issues and Decision Memorandum are identical in content.

Analysis of Comments Received

In the Issues and Decision Memorandum, we have addressed all issues that parties raised in this review. The issues include the likelihood of continuation or recurrence of countervailable subsidies and the net countervailable subsidies likely to prevail if the Department revoked the order.

Final Results of Sunset Review

Pursuant to sections 752(b)(1) and (3) of the Act, we determine that revocation of the CVD Order would be likely to lead to continuation or recurrence of countervailable subsidies at the following net countervailable subsidy rates:

Exporter/manufacturer | Net subsidy rate (percent) ⁶
Advance Polybag Co., Ltd | 52.56
Fotai Vietnam Enterprise Corp. and Fotai Enterprise Corporation | 5.28
All Others | 5.28

Administrative Protective Order

This notice also serves as the only reminder to parties subject to administrative protective order (APO) of their responsibility concerning the return or destruction of proprietary information disclosed under APO in accordance with 19 CFR 351.305. Timely notification of the return or destruction of APO materials or conversion to judicial protective orders is hereby requested. Failure to comply with the regulations and terms of an APO is a violation which is subject to sanction.

⁶ Chin Sheng Company, Ltd. was excluded from the order as the company received a de minimis rate in the original investigation.

We are issuing and publishing the results and notice in accordance with sections 751(c), 752(b), and 777(i)(1) of the Act and 19 CFR 351.218.

Dated: July 24, 2015.
Paul Piquado,
Assistant Secretary for Enforcement and Compliance.

Appendix—List of Topics Discussed in the Issues and Decision Memorandum

1. Summary

2. Background

3. Scope of the Order

4. History of the Order

5. Discussion of the Issues

a. Likelihood of Continuation or Recurrence of a Countervailable Subsidy

b. Net Countervailable Subsidy Likely To Prevail

6. Nature of the Subsidies

7. Final Results of Sunset Review

8. Recommendation

[FR Doc. 2015-19248 Filed 8-4-15; 8:45 am]

BILLING CODE 3510-DS-P